FEDERAL HOUSING FINANCE AGENCY

[No. 2022-N-9]

Notice of Intent To Establish a Federal Advisory Committee on Affordable, Equitable, and Sustainable Housing

AGENCY: Federal Housing Finance Agency.

ACTION: Notice.

SUMMARY: The Federal Housing Finance Agency (FHFA) has determined that it is necessary and in the public interest to establish a Federal Advisory Committee on Affordable, Equitable, and Sustainable Housing. A charter has been prepared and will be filed at least 15 days following the date of publication of this notice.

FOR FURTHER INFORMATION CONTACT: Erin Barry, Senior Policy Analyst, Office of Housing & Community Investment, Division of Housing Mission and Goals, ACAESH@fhfa.gov, (202) 649-3287, Federal Housing Finance Agency, Constitution Center, 400 7th Street SW, Washington, DC 20219. For TTY/TRS users with hearing and speech disabilities, dial 711 and ask to be connected to any of the contact numbers above.

SUPPLEMENTARY INFORMATION: Pursuant to the Federal Advisory Committee Act (FACA) (5 U.S.C. app. 2, as amended), FHFA intends to establish a Federal Advisory Committee on Affordable, Equitable, and Sustainable Housing (Committee). FHFA has determined that it is necessary and in the public interest to establish this Committee in order to fulfill its strategic goal of providing access to affordable, equitable, and sustainable housing.

Objectives and Duties of the Committee

The purpose of the Committee is to advise FHFA in the exercise of its oversight functions regarding affordable, equitable, and sustainable housing, including but not limited to, affordable, equitable, and sustainable housing needs, barriers to access, barriers to long-term sustainability, and any regulatory, guidance, or policy changes that may be necessary or beneficial to expand such housing. The Committee will focus on FHFA's regulated entities—Fannie Mae, Freddie Mac, and the Federal Home Loan Banks—and their respective roles in providing a reliable source of liquidity and funding to support housing finance and community investment in the single-family and multifamily housing markets.

The scope of the Committee's activities shall include providing information and analysis in support of advice and recommendations to FHFA. Each Committee meeting will better inform any or all the following: FHFA's policy development, rulemaking, or community and public engagement functions as they relate to affordable, equitable, and sustainable housing.

The duties of the Committee are solely advisory and shall extend only to its submission of advice and recommendations to FHFA, with supporting information and analysis (within the scope of the Committee's activities as defined herein), which shall be non-binding on FHFA.

No determinations of fact or policy shall be made by the Committee. The Committee shall have no decision-making role, and shall have no access to non-public FHFA information, including confidential supervisory or other confidential information.

Membership of the Committee

The FHFA Director shall appoint the members of the Committee. To achieve a fairly balanced membership, FHFA shall seek members representative of diverse communities, points of view, institution asset sizes, and geographical locations, with expertise in affordable, sustainable, or equitable housing in single-family and multifamily housing. The Committee will include members with expertise, applicable to Fannie Mae, Freddie Mac, or the Federal Home Loan Banks, in the areas related to the duties and authorities of the Committee, such as: (1) fair lending, fair housing, or civil rights; (2) single-family lending, servicing, development, mortgages, or capital markets; (3) multifamily lending, servicing, development, mortgages, capital markets, or investments (i.e. Low-Income Housing Tax Credits); (4) consumer, tenant, or community advocacy; (5) market technology; (6) state, local, or tribal government housing policies and programs; and (7) academic or non-academic affiliated housing research.

The Committee shall consist of approximately 20 members, serving two-year terms. Members shall serve at the sole discretion of the Director.

The Committee shall meet at such intervals as are required to carry out its functions. It is estimated that the Committee will meet at least twice per year. Generally, Committee meetings will be open to the public.

Applications and nominations for membership on the Committee will be solicited in a subsequent notice in the Federal Register.

Sandra L. Thompson,
Director, Federal Housing Finance Agency.

[FR Doc. 2022-18434 Filed 8-25-22; 8:45 am]

BILLING CODE 8070-01-P